DEPARTMENT OF THE INTERIOR

Bureau of Land Management

[LLAK930000.L13100000.FF0000.241A]

Renewal of Approved Information Collection

AGENCY: Bureau of Land Management, Interior.

ACTION: 60-Day notice and request for comments.

SUMMARY: In compliance with the Paperwork Reduction Act, the Bureau of Land Management (BLM) invites public comments on, and plans to request approval to continue, the collection of information from applicants for oil shale leases, oil shale lessees, and oil shale operators. The Office of Management and Budget (OMB) has assigned control number 1004-0201 to this information collection.

DATES: Please submit comments on the proposed information collection by October 3, 2014.

ADDRESSES: Comments may be submitted by mail, fax, or electronic mail. Mail: U.S. Department of the Interior, Bureau of Land Management, 1849 C Street NW., Room 2134LM, Attention: Jean Sonneman, Washington, DC 20240. Fax: To Jean Sonneman at 202-245-0050. Electronic mail: Jean_Sonneman@blm.gov. Please indicate “Attn: 1004-0201” regardless of the form of your comments.

FOR FURTHER INFORMATION CONTACT: Mary Linda Ponticelli at 202-912-7115. Persons who use a telecommunication device for the deaf may call the Federal Information Relay Service at 1-800-877-8339 to leave a message for Ms. Ponticelli.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to the OMB for approval. The Paperwork Reduction Act provides that an agency may not conduct or sponsor a collection of information unless it displays a currently valid OMB control number. Until the OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to the OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Oil Shale Management (43 CFR Parts 3900, 3910, 3920, and 3930).

OMB Control Number: 1004-0201.

Summary: This control number applies to the exploration, development, and utilization of oil shale resources on BLM-managed public lands. Currently, the only oil shale leases issued by the BLM are for research, development, and demonstration (RD&D) leases. However, the BLM has issued a regulatory framework for both RD&D leases and commercial leases.

Frequency of Collection: On occasion.

Forms: None.

Description of Respondents: Applicants for oil shale leases, oil shale lessees, and oil shale operators.

Estimated Annual Responses: 24.

Estimated Annual Burden Hours: 1,795.

Estimated Annual Non-Hour Costs: $526,622.

The estimated burdens are itemized in the following table:

A. | B. | C. | D.
Type of response | Number of responses | Hours per response | Total time (column B × column C)
Application for Waiver, Suspension, or Reduction of Rental or Payment In Lieu of Production; Application for Reduction in Royalty; or Application for Waiver of Royalty. 43 CFR 3903.54(b) | 1 | 1 | 1
Bonding Requirements. 43 CFR Subpart 3904 | 1 | 1 | 1
Application for an Exploration License. 43 CFR 3910.31(a) through (e) | 1 | 24 | 24
Notice Seeking Participation in an Exploration License. 43 CFR 3910.31(f) | 1 | 1 | 1
Data Obtained Under an Exploration License. 43 CFR 3910.44 | 1 | 8 | 8
Response to Call for Expression of Leasing Interest. 43 CFR 3921.30 | 1 | 4 | 4
Application for a Lease—Individuals. 43 CFR 3902.23, 3922.20, and 3922.30 | 1 | 308 | 308
Application for a Lease—Associations. 43 CFR 3902.24, 3922.20, and 3922.30 | 1 | 308 | 308
Application for a Lease—Corporations. 43 CFR 3902.25, 3922.20, and 3922.30 | 1 | 308 | 308
Sealed Bid. 43 CFR 3924.10 | 1 | 8 | 8
Application to Convert Research, Development, and Demonstration Lease to Commercial Lease. 43 CFR 3926.10(c) | 1 | 308 | 308
Drill and Geophysical Logs. 43 CFR 3930.11(b) | 1 | 19 | 19
New Geologic Information. 43 CFR 3930.20(b) | 1 | 19 | 19
Plan of Development. 43 CFR 3931.11 | 1 | 308 | 308
Application for Suspension of Lease Operations and Production. 43 CRR 3931.30 | 1 | 24 | 24
Exploration Plan. 43 CFR 3931.41 | 1 | 24 | 24
Modification of Approved Exploration Plan or Plan of Development. 43 CFR 3931.50 | 1 | 24 | 24
Production Maps and Production Reports. 43 CFR 3931.70 | 1 | 16 | 16
Records of Core or Test Hole Samples and Cuttings. 43 CFR 3931.80 | 1 | 16 | 16
Application for Modification of Lease Size. 43 CFR 3932.10, 3930.20, and 3932.30 | 1 | 12 | 12
Request for Approval of Assignment of Record Title or Sublease or Notice of Overriding Royalty Interest Assignment. 43 CFR Subpart 3933 | 2 | 10 | 20
Relinquishment of Lease or Exploration License. 43 CFR 3934.10 | 1 | 18 | 18
Production and Sale Records. 43 CFR 3935.10 | 1 | 16 | 16
Totals | 24 |  | 1,795

Jean Sonneman,
Information Collection Clearance Officer, Bureau of Land Management.

[FR Doc. 2014-18358 Filed 8-1-14; 8:45 am]

BILLING CODE 4310-84-P